DEPARTMENT OF THE TREASURY

Submission for OMB Review; Comment Request

The Department of the Treasury will submit the following information collection request(s) to the Office of Management and Budget (OMB) for review and clearance in accordance with the Paperwork Reduction Act of 1995, Public Law 104-13, on or after the date of publication of this notice.

DATES: Comments should be received on or before November 14, 2016 to be assured of consideration.

ADDRESSES: Send comments regarding the burden estimates, or any other aspect of the information collection(s), including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Community Development Financial Institutions (CDFI) Fund

OMB Control Number: 1559-0024.

Type of Review: Extension without change of a currently approved collection.

Title: New Markets Tax Credit (NMTC) Program Allocation Tracking System (ATS).

Abstract: The NMTC Program was established by Congress in 2000 to spur new or increased investments into operating businesses and real estate projects located in low-income communities. The program attracts investment capital to low-income communities by permitting individual and corporate investors to receive a tax credit against their Federal income tax return in exchange for making equity investments in specialized financial institutions called Community Development Entities (CDEs). Via a competitive process, the CDFI Fund awards NMTC allocation awards to select CDEs, based upon information submitted in their NMTC Allocation Application. Entities receiving a NMTC allocation must enter into an allocation agreement with the CDFI Fund. The allocation agreement contains the terms and conditions, including all reporting requirements, associated with the receipt of a NMTC allocation. The CDFI Fund requires each CDE to use an electronic data collection and submission system, known as the Allocation Tracking System (ATS) to collect information on investors making Qualified Equity Investments (QEIs) in CDEs.

The ATS enhances the allocatee's ability to report such information to the CDFI Fund in a timely fashion. This information is also used by the Treasury Department to (1) monitor the issuance of QEIs to ensure that no allocatee exceeds its allocation authority; (2) ensure that QEIs are issued within the timeframes required by the NMTC Program regulations and the legal agreements signed between the CDFI Fund and the allocatee; and (3) assist with NMTC Program evaluation efforts.

Affected Public: Private Sector: Business or other for-profits, Not-for-profit institutions); State, Local, and Tribal Governments.

Estimated Total Annual Burden Hours: 5,940.

Dated: October 5, 2016.
Brenda Simms,
Treasury PRA Clearance Officer.

[FR Doc. 2016-24565 Filed 10-11-16; 8:45 am]

BILLING CODE 4810-70-P